DEPARTMENT OF COMMERCE

National Oceanic and Atmospheric Administration

Notice of Meeting Cancellation of the Advisory Committee on Commercial Remote Sensing

AGENCY: National Oceanic and Atmospheric Administration, Commerce.

ACTION: Notice of meeting cancellation.

SUMMARY: On February 28, 2020, the National Oceanic and Atmospheric Administration (NOAA) published a notice that announced the public meeting of The Advisory Committee on Commercial Remote Sensing (“ACCRES” or “the Committee”) on March 18, 2020. This meeting has been cancelled due to developments of COVID-19 (Coronavirus) in the region.

FOR FURTHER INFORMATION CONTACT: Tashaun Pierre, NOAA/NESDIS/CRSRA, 1335 East West Highway, G-101, Silver Spring, Maryland 20910; (301) 713-7047 or Tashaun.pierre@noaa.gov.

SUPPLEMENTARY INFORMATION: Given the evolving environment and growing concerns regarding COVID-19, NOAA has made the difficult decision to postpone the 27th Meeting of the Advisory Board on Commercial Remote Sensing (ACCRES) scheduled for March 18, 2020. We will reschedule this meeting and communicate the new date and location sometime in the near future. Notice of the rescheduled meeting will be published in the Federal Register.

Stephen M. Volz,
Assistant Administrator for Satellite and Information Services.

[FR Doc. 2020-05669 Filed 3-18-20; 8:45 am]

BILLING CODE 3510-HR-P